DEPARTMENT OF JUSTICE

Drug Enforcement Administration

David T. Koon, M.D.; Revocation of Registration

On July 24, 2009, the Deputy Assistant Administrator, Office of Diversion Control, Drug Enforcement Administration, issued an Order to Show Cause to David T. Koon (hereinafter, Registrant), of Summerton, South Carolina. The Show Cause Order proposed the revocation of Respondent's DEA Certificate of Registration, BK4092350, as a practitioner, and the denial of any applications to renew or modify the registration, on the ground that he does not “have authority to practice medicine or handle controlled substance in the [S]tate of South Carolina, the [S]tate in which [he is] registered with DEA” because “of actions by the South Carolina Board of Medical Examiners and the South Carolina Bureau of Drug Control.” Id. at 1 (citing 21 U.S.C. 824(a)(3)).

On August 1, 2009, the Show Cause Order, which also advised Registrant of his right to request a hearing on the allegations or to file a written statement in lieu of a hearing, the procedures for doing either, and the consequence for failing to do so, was served by certified mail sent to him at his home address as established by the signed return-receipt card. Id. at 2. Since that time, neither Respondent, nor anyone purporting to represent him, has requested a hearing or submitted a statement. Because more than thirty days have passed since service of the Show Cause Order, I conclude that Respondent has waived his right to either request a hearing or to submit a written statement. 21 CFR 1301.43. I therefore issue this Decision and Final Order without a hearing based on relevant material contained in the record submitted by the Government and make the following findings.

Findings

Respondent is the holder of DEA Certificate of Registration, BK4092350. Respondent's registration was last renewed on January 2, 2009, and does not expire until December 31, 2011.

On March 31, 2009, the South Carolina Board of Medical Examiners ordered that Respondent's medical license be “temporarily suspended, effective immediately, until further Order of the Board.” Order of Temporary Suspension, In re David Thomas Koon, OIE# 2009-46, 2008-217 (S.C. Bd. Med. Exam'rs, Mar. 31, 2009). Moreover, according to the Board's Web site, Registrant's medical license expired on September 30, 2009; the Web site also indicates Registrant's “Credential Status” as “Suspended.” In addition, according to the South Carolina Department of Health and Environmental Control, Bureau of Drug Control, Registrant's South Carolina Controlled Substances Registration expired on May 12, 2009.

Discussion

DEA does not have statutory authority to grant or maintain a DEA registration if the applicant or registrant lacks authority to handle controlled substances under the laws of the State in which he is engaged in professional practice. See 21 U.S.C. 802(21) (defining the term “practitioner” as a person “licensed, registered, or otherwise permitted, by the United States or the jurisdiction in which he practices * * * to distribute, dispense * * * [or] administer * * * a controlled substance”); id. § 823(f) (“The Attorney General shall register practitioners * * * to dispense * * * controlled substances * * * if the applicant is authorized to dispense * * * controlled substances under the laws of the State in which he practices.”). As these provisions make plain, possessing authority under state law to handle controlled substances is an essential condition for holding a DEA registration.

Accordingly, DEA has held repeatedly that the CSA requires the revocation of a registration issued to a practitioner whose state license has been suspended or revoked. David W. Wang, 72 FR 54297, 54298 (2007); Sheran Arden Yeates, 71 FR 39130, 39131 (2006); Dominick A. Ricci, 58 FR 51104, 51105 (1993); Bobby Watts, 53 FR 11919, 11920 (1988). See also 21 U.S.C. 824(a)(3) (authorizing the revocation of a registration “upon a finding that the registrant * * * has had his State license or registration suspended [or] revoked * * * and is no longer authorized by State law to engage in the * * * distribution [or] dispensing of controlled substances”).

Moreover, the Agency has interpreted the CSA to require the revocation of a registration upon a practitioner's loss of state authority “not only where a registrant's authority has been suspended or revoked, but also where a practitioner * * * has lost his state authority for reasons other than through formal disciplinary action of a State board.” John B. Freitas, 74 FR 17524, 17525 (2009). Thus, even when a registrant ceases to possess authority to handle controlled substance in the State in which he practices through the expiration of a medical license or separate state controlled substances registration (when required), the Agency has revoked the practitioner's registration. James Stephen Ferguson, 75 FR 49994, 49995 (2010); Mark L. Beck, 64 FR 40899, 40900 (1999); Charles H. Ryan, 58 FR 14430 (1993).

Because Registrant is no longer licensed to practice medicine and to dispense controlled substances in South Carolina, the State in which he is registered with DEA, under the CSA, he is no longer entitled to hold his registration. Accordingly, his registration will be revoked and any pending applications will be denied.

Order

Pursuant to the authority vested in me by 21 U.S.C. 823(f) & 824(a), as well as 28 CFR 0.100(b), I order that DEA Certificate of Registration, BK4092350, issued to David T. Koon, M.D., be, and it hereby is, revoked. I further order that any pending application of David T. Koon, M.D., to renew or modify his registration, be, and it hereby is, denied. This Order is effective November 28, 2011.

Dated: October 17, 2011.
Michele M. Leonhart,
Administrator.

[FR Doc. 2011-28010 Filed 10-27-11; 8:45 am]

BILLING CODE 4410-09-P